NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on November 4-5, 2024. A sample of agenda items to be discussed during the public session includes: an overview of the Advance Act; an update on the Medical Radiation Safety Team's activities; ACMUI bylaws update; status of patient release guidance revision; NRC review of recent yttrium-90 microsphere medical events; and NRC evaluation of current patient waste regulations and guidance. The agenda is subject to change. The current agenda and any updates will be available on the ACMUI's Meetings and Related Documents web page at https://www.nrc.gov/reading-rm/doc-collections/acmui/meetings/2024.html or by emailing Ms. L. Armstead and T. Roszkowski at the contact information below.

Purpose: Discuss issues related to 10 CFR part 35 Medical Use of Byproduct Material.

Date and Time for Open Sessions: November 4, 2024, from 10:00 a.m. to 4:35 p.m. EST.

Date and Time for Closed Session: November 5, 2024, from 9:30 a.m. to 11:30 a.m. EST. This session will be closed to conduct the ACMUI's required annual training.

Address for Public Meeting: This is a virtual meeting

Date | Webinar information (Microsoft Teams)
November 4-5, 2024 | Link: https://teams.microsoft.com/l/meetup-join/19%3ameeting_M2Q3MzczZWUtNGUxZS00ZWNlLThmNmUtNjM4Y2ZhYTYxYTA0%40thread.v2/0?context=%7b%22Tid%22%3a%22e8d01475-c3b5-436a-a065-5def4c64f52e%22%2c%22Oid%22%3a%22304f46bf-32c2-4e0f-912c-878db895e74a%22%7d.
| Meeting ID: 294 578 901 723. Passcode: UaHF5t.
| Call in number (audio only): +1 301-576-2978, Silver Spring, MD.
| Phone Conference ID: 277 173 020#.

Public Participation: Any member of the public who wishes to participate in the teleconference should contact Ms. Armstead and Ms. Roszkowski using the contact information below.

Contact Information: Ms. L. Armstead, email: lxa5@nrc.gov and Ms. T. Roszkowski, email: vnr@nrc.gov.

Conduct of the Meeting

The ACMUI Chair, Dr. Hossein Jadvar, will preside over the meeting. Dr. Jadvar will conduct the meeting in a manner that will facilitate the orderly conduct of business. The following procedures apply to public participation in the meeting:

1. Persons who wish to provide a written statement should submit an electronic copy to Ms. L. Armstead and Ms. T. Roszkowski using the contact information listed above. All submittals must be received by the close of business on October 29, 2024, and must only pertain to the topics on the agenda.

2. Questions and comments from members of the public will be permitted during the meeting, at the discretion of the ACMUI Chair.

3. The draft transcript and meeting summary will be available on ACMUI's website https://www.nrc.gov/reading-rm/doc-collections/acmui/meetings/2024.html on or about December 17, 2024.

4. Persons who require special services, such as those for the hearing impaired, should notify Ms. L. Armstead and Ms. T. Roszkowski of their planned participation.

This meeting will be held in accordance with the Atomic Energy Act of 1954, as amended (primarily Section 161a); the Federal Advisory Committee Act (5 U.S.C. App); and the Commission's regulations in title 10 of the Code of Federal Regulations, part 7.

Dated at Rockville, Maryland this this 2nd day of October, 2024.
For the U.S. Nuclear Regulatory Commission.
Russell E. Chazell,
Federal Advisory Committee Management Officer.

[FR Doc. 2024-23168 Filed 10-7-24; 8:45 am]

BILLING CODE 7590-01-P